DEPARTMENT OF ENERGY

Federal Energy Regulatory Commission

[Docket No. EC04-54-000, et al.]

Mesquite Investors, L.L.C., et al.; Electric Rate and Corporate Filings

January 16, 2004.

The following filings have been made with the Commission. The filings are listed in ascending order within each docket classification.

1. Mesquite Investors, LLC, ANR Venture Management Company, Mohawk River Funding IV, LLC, Okwari IV, LLC

[Docket No. EC04-54-000]

Take notice that on January 15, 2004, Mesquite Investors, LLC (Mesquite), ANR Venture Management Company (ANRV), Mohawk River Funding IV, LLC (MRF IV) and Okwari IV, LLC (Okwari) (jointly, Applicants) filed with the Federal Energy Regulatory Commission an application pursuant to section 203 of the Federal Power Act for authorization for Mesquite and ANRV to sell their membership interests in MRF IV to Okwari IV. Applicants also requested privileged treatment for certain exhibits pursuant to 18 CFR 33.9 and 388.112.

Comment Date: February 5, 2004.

2. Midwest Independent Transmission System Operator, Inc.

[Docket No. ER04-392-000]

Take notice that on January 12, 2004, the Midwest Independent Transmission System Operator, Inc. (Midwest ISO) pursuant to section 205 of the Federal Power Act and section 35.12 of the Commission's regulations, 18 CFR 35.12 (2002), submitted for filing an Interconnection and Operating Agreement among Wisconsin Public Power Inc., the Midwest ISO and American Transmission Company LLC.

Midwest ISO states that a copy of this filing was served on all parties.

Comment Date: February 2, 2004.

3. Commonwealth Edison Company

[Docket No. ER04-393-000]

Take notice that on January 12, 2004, Commonwealth Edison Company (ComEd) submitted for filing two executed interconnection agreements. The first interconnection agreement is between ComEd and Zilkha Renewable Energy Midwest I, LLC and the second interconnection agreement is between ComEd and Zilkha I's affiliate, Zilkha Renewable Energy Midwest VI, LLC. ComEd states that pursuant to the Commission's Order No. 614, it has designated the interconnection agreements as Service Agreements No. 731 and 732, respectively, under ComEd's open access transmission service tariff, ComEd FERC Electric Tariff, Second Revised Volume No. 5.

Comment Date: February 2, 2004.

4. Public Service Company of New Mexico

[Docket No. ER04-394-000]

Take notice that on January 12, 2004, Public Service Company of New Mexico (PNM) submitted for filing an executed service agreement, dated January 1, 2004, for firm point-to-point transmission service and ancillary services, between PNM Transmission Development and Contracts (Transmission Provider) and PNM Wholesale Marketing (Transmission Customer), under the terms of PNM's Open Access Transmission Tariff. PNM requests an effective date of January 1, 2004, for each agreement.

PNM states that copies of the filing have been sent to PNM International Business Development, PNM Transmission Development and Contracts, the New Mexico Public Regulation Commission and the New Mexico Attorney General.

Comment Date: February 2, 2004.

5. Rochester Gas And Electric Corporation

[Docket No. ER04-395-000]

Take notice that on January 12, 2004, Rochester Gas and Electric Corporation (RG&E) tendered for filing with the Federal Energy Regulatory Commission an executed Interconnection Agreement between RG&E and Constellation Generation Group, LLC (CGG) that sets forth the terms and conditions governing the interconnection between RG&E 's transmission system and the Robert E. Ginna Nuclear Power Plant in Ontario County, New York, to be owned and operated by an affiliate of CGG.

RG&E states that copies of this filing have been served upon CGG, the New York State Public Service Commission, and the New York Independent System Operator, Inc.

Comment Date: February 2, 2004.

6. Entergy Services, Inc.

[Docket No. ER04-396-000]

Take notice that on January 12, 2004, Entergy Services, Inc., on behalf of Entergy Mississippi, Inc. (Entergy Mississippi), tendered for filing a Notice of Termination of the Interconnection and Operating Agreement and Generator Imbalance Agreement between Entergy Mississippi and LSP-Pike Energy, LLC.

Comment Date: February 2, 2004.

7. Wisconsin Public Service Corporation and Upper Peninsula Power Company

[Docket No. ER04-397-000]

Take notice that on January 12, 2004, Wisconsin Public Service Corporation (WPSC) and Upper Peninsula Power Company (UPPCO) submitted a Notice of Termination of Standards of Conduct. WPSC and UPPCO request a March 12, 2004, effective date.

WPSC and UPPCO state that copies of the filing were served upon the Michigan Public Service Commission, the Public Service Commission of Wisconsin, and American Transmission Company, LLC.

Comment Date: February 2, 2004.

Standard Paragraph

Any person desiring to intervene or to protest this filing should file with the Federal Energy Regulatory Commission, 888 First Street, NE., Washington, DC 20426, in accordance with rules 211 and 214 of the commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-100 Filed 01-23-04; 8:45 am]

BILLING CODE 6717-01-P